DEPARTMENT OF TRANSPORTATION

Federal Aviation Administration

14 CFR Part 39

[Docket No. FAA-2016-9389; Directorate Identifier 2014-NM-153-AD; Amendment 39-18953; AD 2017-14-09]

RIN 2120-AA64

Airworthiness Directives; Fokker Services B.V. Airplanes

AGENCY: Federal Aviation Administration (FAA), Department of Transportation (DOT).

ACTION: Final rule.

SUMMARY: We are adopting a new airworthiness directive (AD) for all Fokker Services B.V. Model F28 Mark 0100 airplanes. This AD was prompted by an evaluation by the design approval holder (DAH) indicating that certain wing fuel tank access panels are subject to widespread fatigue damage (WFD). This AD requires replacement of affected access panels and modification of the coamings of the associated access holes. We are issuing this AD to address the unsafe condition on these products.

DATES: This AD is effective August 23, 2017.

The Director of the Federal Register approved the incorporation by reference of certain publications listed in this AD as of August 23, 2017.

ADDRESSES: For service information identified in this final rule, contact Fokker Services B.V., Technical Services Dept., P.O. Box 1357, 2130 EL Hoofddorp, the Netherlands; telephone: +31 (0)88-6280-350; fax: +31 (0)88-6280-111; email: technicalservices@fokker.com; Internet: http://www.myfokkerfleet.com. You may view this referenced service information at the FAA, Transport Airplane Directorate, 1601 Lind Avenue SW., Renton, WA. For information on the availability of this material at the FAA, call 425-227-1221. It is also available on the Internet at http://www.regulations.gov by searching for and locating Docket No. FAA-2016-9389.

Examining the AD Docket

You may examine the AD docket on the Internet at http://www.regulations.gov by searching for and locating Docket No. FAA-2016-9389; or in person at the Docket Management Facility between 9 a.m. and 5 p.m., Monday through Friday, except Federal holidays. The AD docket contains this AD, the regulatory evaluation, any comments received, and other information. The street address for the Docket Office (telephone 800-647-5527) is Docket Management Facility, U.S. Department of Transportation, Docket Operations, M-30, West Building Ground Floor, Room W12-140, 1200 New Jersey Avenue SE., Washington, DC 20590.

FOR FURTHER INFORMATION CONTACT: Tom Rodriguez, Aerospace Engineer, International Branch, ANM-116, Transport Airplane Directorate, FAA, 1601 Lind Avenue SW., Renton, WA 98057-3356; telephone 425-227-1137; fax 425-227-1149.

SUPPLEMENTARY INFORMATION:

Discussion

We issued a notice of proposed rulemaking (NPRM) to amend 14 CFR part 39 by adding an AD that would apply to all Fokker Services B.V. Model F28 Mark 0100 airplanes. The NPRM published in the Federal Register on November 17, 2016 (81 FR 81018) (“the NPRM”). The NPRM was prompted by an evaluation by the DAH indicating that certain wing fuel tank access panels are subject to WFD. The NPRM proposed to require replacement of affected access panels and modification of the coamings of the associated access holes. We are issuing this AD to prevent fatigue cracking in the wing structure, which could result in reduced structural integrity of the airplane.

The European Aviation Safety Agency (EASA), which is the Technical Agent for the Member States of the European Union, has issued EASA AD 2014-0158, dated July 7, 2014 (referred to after this as the Mandatory Continuing Airworthiness Information, or “the MCAI”), to correct an unsafe condition for all Fokker Services B.V. Model F28 Mark 0100 series airplanes. The MCAI states:

Based on findings on test articles, fatigue-induced cracks may develop in the coamings of certain wing fuel tank access panels Part Number (P/N) D12395-403 and P/N D12450-403, installed on Fokker F28 Mark 0100 aeroplanes.

To ensure the continued structural integrity with respect to fatigue, repetitive inspections were included in the Airworthiness Limitations Section (ALS) of the Instructions for Continued Airworthiness. Fokker Services also developed precautionary measures to reduce stress loads in the affected areas by replacement of the affected access panels with new panels, P/N D19701-401 and P/N D19701-403, having thinner skin, and a modification by introducing internal patches to the coamings of the affected access holes.

These precautionary measures were introduced with Service Bulletins (SB) SBF100-57-027 and SBF100-57-028. As part of the Widespread Fatigue Damage re-evaluation, it was concluded that repetitive inspections through the ALS do not provide a sufficient level of protection against the fatigue-induced cracks.

This condition, if not corrected, would affect the structural integrity of the lower wing skins of both outer wings in the areas surrounding the affected fuel tank access panels.

For the reasons described above, this [EASA] AD requires replacement of the affected access panels and modification of the coamings of these access holes.

Post-modification inspection requirements depend on the actual number of flight cycles accumulated at the moment of modification. Related detailed information is provided in SBF100-57-027 and SBF100-57-028, as well as in Fokker Services ALS Report SE-623 Issue 12.

Fokker Services All Operators Message AOF100.178#05 provides additional information concerning the subject addressed by this [EASA] AD.

You may examine the MCAI in the AD docket on the Internet at http://www.regulations.gov by searching for and locating Docket No. FAA-2016-9389. In the NPRM, we incorrectly cited EASA AD 2016-0125, dated June 21, 2016. We do not address EASA AD 2016-0125 or its contents in this AD.

Comments

We gave the public the opportunity to participate in developing this AD. We received no comments on the NPRM or on the determination of the cost to the public.

Conclusion

We reviewed the relevant data and determined that air safety and the public interest require adopting this AD as proposed except for minor editorial changes. We have determined that these minor changes:

• Are consistent with the intent that was proposed in the NPRM for correcting the unsafe condition; and

• Do not add any additional burden upon the public than was already proposed in the NPRM.

Related Service Information Under 1 CFR Part 51

Fokker Services B.V. has issued the following service information:

• Fokker Service Bulletin SBF100-57-027, Revision 2, dated December 11, 2013, which provides instructions to replace certain fuel tank access panels.

• Fokker Service Bulletin SBF100-57-028, Revision 2, dated December 11, 2013, which provides instructions to modify the coamings of certain fuel tank access holes.

This service information is reasonably available because the interested parties have access to it through their normal course of business or by the means identified in the ADDRESSES section.

Costs of Compliance

We estimate that this AD affects 15 airplanes of U.S. registry.

We estimate the following costs to comply with this AD:

Estimated Costs
Action | Labor cost | Parts cost | Cost per product | Cost on U.S. operators
Replacement and modification | 510 work-hours × $85 per hour = $43,350 | $45,500 | $88,850 | $1,332,750

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-14-09 Fokker Services B.V.: Amendment 39-18953; Docket No. FAA-2016-9389; Directorate Identifier 2014-NM-153-AD.

(a) Effective Date

This AD is effective August 23, 2017.

(b) Affected ADs

None.

(c) Applicability

This AD applies to Fokker Services B.V. Model F28 Mark 0100 airplanes, certificated in any category, all serial numbers.

(d) Subject

Air Transport Association (ATA) of America Code 57, Wings.

(e) Reason

This AD was prompted by an evaluation by the design approval holder indicating that certain wing fuel tank access panels are subject to widespread fatigue damage. We are issuing this AD to prevent fatigue cracking in the wing structure, which could result in reduced structural integrity of the airplane.

(f) Compliance

Comply with this AD within the compliance times specified, unless already done.

(g) Modification and Replacement

Within 63,000 flight cycles since first flight of the airplane, or within 90 days after the effective date of this AD, whichever occurs later, accomplish the actions specified in paragraphs (g)(1) and (g)(2) of this AD, as applicable.

(1) For airplanes identified in Fokker Service Bulletin SBF100-57-028, Revision 2, dated December 11, 2013: Modify the coamings of the fuel tank access holes at the access panel locations identified in, and in accordance with the Accomplishment Instructions of Fokker Service Bulletin SBF100-57-028, Revision 2, dated December 11, 2013.

(2) For airplanes identified in Fokker Service Bulletin SBF100-57-027, Revision 2, dated December 11, 2013: Replace access panels having part number D12395-403 and D12450-403 with new panels having part number D19701-401 and D19701-403, at the access panel locations identified in, and in accordance with the Accomplishment Instructions of Fokker Service Bulletin SBF100-57-027, Revision 2, dated December 11, 2013.

(h) Parts Installation Prohibition

(1) For airplanes that, on the effective date of this AD, have an access panel with part number D12395-403 or D12450-403 installed at any of the affected locations: After accomplishing the actions required by paragraphs (g)(1) and (g)(2) of this AD, as applicable, no person may install, on any airplane, access panels having part number D12395-403 or D12450-403 at any access panel location as identified in Fokker Service Bulletin SBF100-57-027, Revision 2, dated December 11, 2013.

(2) For airplanes that, on the effective date of this AD, do not have an access panel with part number D12395-403 or D12450-403 installed at any of the affected locations: As of the effective date of this AD, no person may install, on any airplane, access panels having part number D12395-403 or D12450-403 at any access panel location as identified in Fokker Service Bulletin SBF100-57-027, Revision 2, dated December 11, 2013.

(i) Credit for Previous Actions

(1) This paragraph provides credit for actions required by paragraph (g)(1) of this AD, if those actions were performed before the effective date of this AD using the service information specified in paragraph (i)(1)(i) or (i)(1)(ii) of this AD.

(i) Fokker Service Bulletin SBF100-57-028, dated May 2, 1994.

(ii) Fokker Service Bulletin SBF100-57-028, Revision 1, dated November 1, 1994.

(2) This paragraph provides credit for actions required by paragraph (g)(2) of this AD, if those actions were performed before the effective date of this AD using the service information specified in paragraph (i)(2)(i) or (i)(2)(ii) of this AD.

(i) Fokker Service Bulletin SBF100-57-027, dated September 13, 1993.

(ii) Fokker Service Bulletin SBF100-57-027, Revision 1, dated May 2, 1994.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the manager of the International Branch, send it to the attention of the person identified in paragraph (k)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Branch, ANM-116, Transport Airplane Directorate, FAA; or the European Aviation Safety Agency (EASA); or Fokker Services B.V.'s EASA Design Organization Approval (DOA). If approved by the DOA, the approval must include the DOA-authorized signature.

(k) Related Information

(1) Refer to Mandatory Continuing Airworthiness Information (MCAI) EASA AD 2014-0158, dated July 7, 2014, for related information. This MCAI may be found in the AD docket on the Internet at http://www.regulations.gov by searching for and locating Docket No. FAA-2016-9389.

(2) For more information about this AD, contact Tom Rodriguez, Aerospace Engineer, International Branch, ANM-116, Transport Airplane Directorate, FAA, 1601 Lind Avenue SW., Renton, WA 98057-3356; telephone 425-227-1137; fax 425-227-1149.

(3) Service information identified in this AD that is not incorporated by reference is available at the addresses specified in paragraphs (l)(3) and (l)(4) of this AD.

(l) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Fokker Service Bulletin SBF100-57-027, Revision 2, dated December 11, 2013.

(ii) Fokker Service Bulletin SBF100-57-028, Revision 2, dated December 11, 2013.

(3) For service information identified in this AD, contact Fokker Services B.V., Technical Services Dept., P.O. Box 1357, 2130 EL Hoofddorp, the Netherlands; telephone: +31 (0)88-6280-350; fax: +31 (0)88-6280-111; email: technicalservices@fokker.com; Internet: http://www.myfokkerfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on July 3, 2017.
Dionne Palermo,
Acting Manager, Transport Airplane Directorate, Aircraft Certification Service.

[FR Doc. 2017-14583 Filed 7-18-17; 8:45 am]

BILLING CODE 4910-13-P